DEPARTMENT OF ENERGY

Office of Fossil Energy

[FE Docket No. 01-38-NG]

Sierra Production Company; Order Granting Long-Term Authorization to Import Natural Gas From Canada

AGENCY: Office of Fossil Energy, DOE.

ACTION: Notice of Order.

SUMMARY: The Office of Fossil Energy (FE) of the Department of Energy (DOE) gives notice that on August 10, 2001, it issued DOE/FE Order No. 1703 granting Sierra Production Company (Sierra) authority to import up to 5,000 Mcf of natural gas per day from Canada for 15 years beginning on the date of first delivery. Sierra will sell this gas to The Montana Power Company which, in turn, will transport and distribute it to its residential and commercial customers in Montana. To carry the gas, Sierra will construct a 1.5-mile pipeline across the International Border from Alberta into northern Toole County, Montana. The new pipeline will require about one month to build.

This Order may be found on the FE web site at http://www.fe.doe.gov, or on our electronic bulletin board at (202) 586-7853. It is also available for inspection and copying in the Office of Natural Gas & Petroleum Import & Export Activities Docket Room, 3E-033, Forrestal Building, 1000 Independence Avenue, SW., Washington, DC 20585-0334, (202) 586-9478. The Docket Room is open between the hours of 8:00 a.m. and 4:30 p.m., Monday through Friday, except Federal holidays.

Issued in Washington, DC, August 14, 2001.
Clifford P. Tomaszewski,
Manager, Natural Gas Regulation, Office of Natural Gas & Petroleum Import & Export Activities Office of Fossil Energy.

[FR Doc. 01-21152 Filed 8-21-01; 8:45 am]

BILLING CODE 6450-01-P